DEPARTMENT OF HEALTH AND HUMAN SERVICES

Centers for Disease Control and Prevention

Disease, Disability, and Injury Prevention and Control Special Emphasis Panel: Impact of Cultural and Socioeconomic Factors on Post-Treatment Surveillance Among African Americans With Colorectal Cancer, Potential Extramural Project 2008-R-03

Notice of Cancellation: This notice was published in the Federal Register on July 22, 2008, Volume 73, Number 141, page 42576. The meeting previously scheduled to convene on August 6, 2008 has been cancelled.

Contact Person for More Information: Linda Shelton, Program Specialist, Coordinating Center for Health and Information Service, Office of the Director, Centers for Disease Control and Prevention, 1600 Clifton Road, NE., MS E21, Atlanta, GA 30333, Telephone (404) 498-1194.

The Director, Management Analysis and Services Office, has been delegated the authority to sign Federal Register notices pertaining to announcements of meetings and other committee management activities, for both CDC and the Agency for Toxic Substances and Disease Registry.

Dated: July 28, 2008.
Elaine L. Baker,
Director, Management Analysis and Services Office, Centers for Disease Control and Prevention.

[FR Doc. E8-17913 Filed 8-4-08; 8:45 am]

BILLING CODE 4163-18-P